DEPARTMENT OF ENERGY

Federal Energy Regulatory Commission

[Project No. 362-004]

Ford Motor Company; Notice of Availability of Environmental Assessment

September 16, 2004.

In accordance with the National Environmental Policy Act of 1969 and Part 380 of the Federal Energy Regulatory Commission's (Commission) regulations, 18 CFR Part 380, FERC Order No. 486, 52 FR 47897, the Office of Energy Projects Staff (staff) reviewed the application for a new license for the Ford Hydroelectric Project, located on the Mississippi River in the city of St. Paul in Ramsey County, Minnesota, and prepared an environmental assessment (EA) for the project. The project uses a Federal dam and occupies 11.2 acres of Federal lands.

In this EA, the staff analyzes the potential environmental effects of the existing project and concludes that licensing the project, with staff's recommended measures, would not constitute a major Federal action significantly affecting the quality of the human environment.

A copy of the EA and application is available for review at the Commission in the Public Reference Room, or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Any comments should be filed by October 15, 2004, and should be addressed to Magalie R. Salas, Secretary, Federal Energy Regulatory Commission, 888 First Street, NE., Washington, DC 20426. Please refer to “Ford Hydroelectric Project, FERC Project No. 362-004” on all comments.

Comments may be filed electronically via the Internet in lieu of paper. See 18 CFR 385.2001(a)(1)(iii) and the instructions on the Commission's Web site at http://www.ferc.gov under the “e-Filing” link. The Commission strongly encourages electronic filings.

You may also register online at http://www.ferc.gov/docs-filing/esubscription.asp to be notified via e-mail of new filings and issuances related to this or other pending projects. For assistance, contact FERC Online Support.

Linda Mitry,
Acting Secretary.

[FR Doc. E4-2323 Filed 9-22-04; 8:45 am]

BILLING CODE 6717-01-P